DEPARTMENT OF HEALTH AND HUMAN SERVICES

Health Resources and Services Administration

Advisory Commission on Childhood Vaccines; Notice of Meeting

In accordance with section 10(a)(2) of the Federal Advisory Committee Act (Pub. L. 92-463), notice is hereby given of the following meeting:

Name: Advisory Commission on Childhood Vaccines (ACCV).

Date and Time: September 14, 2005, 9 a.m.-5 p.m., e.d.t.

Place: Audio Conference Call and Parklawn Building, Conference Rooms G and H, 5600 Fishers Lane, Rockville, MD 20857.

The ACCV will meet on Wednesday, September 14, from 9 a.m. to 5 p.m. The public can join the meeting in person at the address listed above or by audio conference call by dialing 1-800-369-6048 on September 14 and providing the following information:

Leader's Name: Dr. Geoffrey Evans.

Password: ACCV.

Agenda: The agenda items for the September meeting will include, but are not limited to: a presentation on the draft combination Vaccine Information Statement for diphtheria-tetanus-acellular-pertussis, haemophilus influenzae type b, polio, pneumococcal, and hepatitis B; a report from the ACCV Workgroup meeting on standards for adding injuries to the Vaccine Injury Table; a summary of the Program Assessment Rating Tool results; and updates from the Division of Vaccine Injury Compensation (DVIC), the Department of Justice, the National Vaccine Program Office, the Centers for Disease Control and Prevention, the National Institute of Allergy and Infectious Diseases (National Institutes of Health), and the Food and Drug Administration. Agenda items are subject to change as priorities dictate.

Public Comments: Persons interested in providing an oral presentation should submit a written request, along with a copy of their presentation to: Ms. Cheryl Lee, Principal Staff Liaison, DVIC, Healthcare Systems Bureau (HSB), Health Resources and Services Administration (HRSA), Room 11C-26, 5600 Fishers Lane, Rockville, Maryland 20857 or e-mail clee@hrsa.gov. Requests should contain the name, address, telephone number, and any business or professional affiliation of the person desiring to make an oral presentation. Groups having similar interests are requested to combine their comments and present them through a single representative. The allocation of time may be adjusted to accommodate the level of expressed interest. DVIC will notify each presenter by mail or telephone of their assigned presentation time. Persons who do not file an advance request for a presentation, but desire to make an oral statement, may announce it at the time of the comment period. These persons will be allocated time as it permits.

FOR FURTHER INFORMATION CONTACT: Anyone requiring information regarding the ACCV should contact Ms. Cheryl Lee, Principal Staff Liaison, DVIC, HSB, HRSA, Room 11C-26, 5600 Fishers Lane, Rockville, MD 20857; telephone (301) 443-2124 or e-mail clee@hrsa.gov.

Dated: August 15, 2005.
Tina M. Cheatham,
Director, Division of Policy Review and Coordination.

[FR Doc. 05-16502 Filed 8-19-05; 8:45 am]

BILLING CODE 4165-15-P